DEPARTMENT OF HOUSING AND URBAN DEVELOPMENT

[Docket No. FR-5121-N-18]

Notice of Proposed Information Collection: Comment Request; Pet Ownership in Assisted Rental Housing for the Elderly or Handicapped

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: August 21, 2007.

ADDRESSES: Interested persons are invited to submit comments regarding this proposal. Comments should refer to the proposal by name and/or OMB Control Number and should be sent to: Lillian Deitzer, Reports Management Officer, Department of Housing and Urban Development, 451 7th Street, SW., L'Enfant Building, Room 8202, Washington, DC 20410, telephone (202) 708-5221 (this is not a toll-free number) for copies of the proposed forms and other available information.

FOR FURTHER INFORMATION CONTACT: Kimberly R. Munson, Office of Asset Management, Department of Housing and Urban Development, 451 7th Street, SW., Room 6168, Washington, DC 20410, telephone number (202) 708-1320 ext. 5122 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Pet Ownership in Assisted Rental Housing for the Elderly or Handicapped.

OMB Control Number, if applicable: 2502-0342.

Description of the need for the information and proposed use: Owners of subsidized multifamily housing projects for the elderly or disabled are required to adhere to statutory, regulatory, and administrative requirements related to pet ownership. Owners are required to provide notice to tenants when developing or amending pet rules, solicit and review tenant comments, distribute pet rules or amended pet rules to tenants, and refund pet deposits in accordance with HUD requirements. Additionally, pet owners are required to register pets with the project manager annually.

Agency form numbers, if applicable: None.

Estimation of the total number of hours needed to prepare the information collection including number of respondents, frequency of response, and hours of response: The total number of respondents is estimated to be 128,656; the frequency of responses is 1 (however, varies based on the required activity); the estimated burden hours per response is 7.25 hours (based on a combined estimate for various activities that may be required), and the total annual burden hours requested are 449,334.

Status of the proposed information collection: Extension of a currently approved collection.

Authority: The Paperwork Reduction Act of 1995, 44 U.S.C., Chapter 35, as amended.

Dated: June 18, 2007.
Frank L. Davis,
General Deputy Assistant Secretary for Housing-Deputy Federal Housing Commissioner.

[FR Doc. E7-12133 Filed 6-21-07; 8:45 am]

BILLING CODE 4210-67-P